DEPARTMENT OF AGRICULTURE

Animal and Plant Health Inspection Service

[Docket No. APHIS-2014-0006]

Notice of Request for Revision To and Extension of Approval of an Information Collection; Animal Disease Traceability

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the animal disease traceability framework.

DATES: We will consider all comments that we receive on or before April 28, 2014.

ADDRESSES: You may submit comments by either of the following methods:

• Federal eRulemaking Portal: Go to http://www.regulations.gov/#!documentDetail;D=APHIS-2014-0006-0001.

• Postal Mail/Commercial Delivery: Send your comment to Docket No. APHIS-2014-0006, Regulatory Analysis and Development, PPD, APHIS, Station 3A-03.8, 4700 River Road, Unit 118, Riverdale, MD 20737-1238.

Supporting documents and any comments we receive on this docket may be viewed at http://www.regulations.gov/#!docketDetail;D=APHIS-2014-0006 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the animal disease traceability framework, contact Dr. John Wiemers, Senior Staff Veterinarian-ADT, VS, APHIS, APHIS, 2100 South Lake Storey Road, Galesburg, IL 61401; (309) 344-1942. For copies of more detailed information on the information collection, contact Mrs. Celeste Sickles, APHIS' Information Collection Coordinator, at (301) 851-2908.

SUPPLEMENTARY INFORMATION:

Title: Animal Disease Traceability.

OMB Control Number: 0579-0327.

Type of Request: Revision to and extension of approval of an information collection.

Abstract: As part of its ongoing efforts to safeguard animal health, the U.S. Department of Agriculture's Animal and Plant Health Inspection Service (APHIS) developed the Animal Disease Traceability (ADT) framework to provide a system that could provide for animal traceability. Traceability helps document the movement history of an animal throughout its life, including during an emergency response or for ongoing animal disease programs. States and Tribal Nations are able to establish the ability to trace animals moving interstate back to their State of origin.

APHIS made systems for animal disease traceability available to Tribal Nations for managing the issuance of unique location identification numbers, including the Standardized Premises Location System and a Tribal Premises Location System, which required completion and submission of Veterinary Services Form 1-63, Tribal Location Identification System Implementation Request.

The above information collection activity was previously approved by the Office of Management and Budget (OMB) under this collection. However, on January 9, 2013, APHIS published a final rule in the Federal Register (78 FR 2040-2075, Docket No. APHIS-2009-0091) ¹ to establish minimum national official identification and documentation requirements for the traceability of livestock moving interstate. States, Tribes, and territories are responsible for implementing their own traceability systems that align with the new framework and other activities to advance animal disease traceability. These systems, which the States and Tribes will describe in their long-term traceability plans, are referred to as ADT Road Maps. In addition, the ADT framework includes the National Uniform Eartagging System (NUES). The ADT Road Maps and NUES include information collection activities that we are including in this collection. As a result, we are revising each of our burden estimates accordingly.

¹ http://www.regulations.gov/#!docketDetail;D=APHIS-2009-0091.

In addition, the previous name for this collection was “Animal Disease Traceability; Tribal Nations Using Systems for Location Identification.” However, based on the January 2013 final rule, there are other entities who must meet the animal disease traceability requirements; therefore, we are changing the name of this collection to “Animal Disease Traceability.”

We are asking OMB to approve these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.3045 hours per response.

Respondents: Animal producers, market/buying station operators, and feedlot operators; laboratory staff; State, Tribal, and territorial animal health officials; device manufacturers; Dairy Herd Information Association officials; and slaughter plant personnel.

Estimated annual number of respondents: 273,439.

Estimated annual number of responses per respondent: 10.083.

Estimated annual number of responses: 2,757,105.

Estimated total annual burden on respondents: 839,600 hours. (Due to averaging, the total annual burden hours may not equal the product of the annual number of responses multiplied by the reporting burden per response.)

All responses to this notice will be summarized and included in the request for OMB approval. All comments will also become a matter of public record.

Done in Washington, DC, this 21st day of February 2014.
Michael C. Gregoire,
Associate Administrator, Animal and Plant Health Inspection Service.

[FR Doc. 2014-04191 Filed 2-24-14; 8:45 am]

BILLING CODE 3410-34-P